DEPARTMENT OF THE TREASURY

Office of Foreign Assets Control

Blocking of Specially Designated National Pursuant to Executive Order 13413

AGENCY: Office of Foreign Assets Control, Treasury.

ACTION: Notice.

SUMMARY: The Treasury Department's Office of Foreign Assets Control (“OFAC”) is publishing the names of four individuals whose property and interests in property have been blocked pursuant to Executive Order 13413 of October 27, 2006, “Blocking Property of Certain Persons Contributing to the Conflict in the Democratic Republic of Congo.”

DATES: The designation by the Director of OFAC of the four individuals identified in this notice, pursuant to Executive Order 13413 of October 27, 2006, is effective on December 2, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) and via facsimile through a 24-hour fax-on-demand service, tel.: (202) 622-0077.

Background

On October 27, 2006, the President signed Executive Order 13413 (the “Order” or “E.O. 13413”) pursuant to, inter alia, the International Emergency Economic Powers Act (50 U.S.C. 1701 et seq.) (IEEPA), section 5 of the United Nations Participation Act, as amended (22 U.S.C. 287c) (UNPA), and section 301 of title 3, United States Code. In the Order, the President found that the situation in the Democratic Republic of the Congo constitutes an unusual and extraordinary threat and imposed sanctions to address it. The President identified seven individuals in the Annex to the Order as subject to these economic sanctions.

Section 1 of the Order blocks, with certain exceptions, all property and interests in property that are in, or thereafter come within, the United States, or within the possession or control of United States persons, of the persons identified by the President in the Annex to the Order, as well as those persons determined by the Secretary of the Treasury, after consultation with the Secretary of State, to meet any of the criteria set forth in subparagraphs (a)(i)-(a)(ii)(G) of Section 1.

On December 2, 2010, the Director of OFAC exercised the Secretary of the Treasury's authority to designate, pursuant to one or more of the criteria set forth in Section 1 of the Order, the individuals listed below, whose property and interests in property therefore are blocked pursuant to E.O. 13413.

The listing of the blocked individuals appears as follows:

1. NSANZUBUKIRE, Felicien (a.k.a. IRAKEZA, Fred); DOB 1967; POB Murama, Kinyinya, Rubungo, Kigali, Rwanda; nationality Rwanda; Lt. Col. (individual) [DRCONGO]

2. ZIMURINDA, Innocent; DOB 1 Sep 1972; alt. DOB 1975; POB Ngungu, Masisi Territory, North Kivu province, Democratic Republic of the Congo; Lt. Col. (individual) [DRCONGO]

3. IYAMUREMYE, Gaston (a.k.a. BYIRINGIRO, Michel; a.k.a. RUMULI; a.k.a. RUMULI, Byiringiro Victor; a.k.a. RUMULI, Michel; a.k.a. RUMURI, Victor), Kibua, North Kivu, Congo, Democratic Republic of the; DOB 1948; POB Musanze District (Northern Province), Rwanda; alt. POB Nyakinama, Ruhengeri, Rwanda; FDLR President; FDLR 2nd Vice President; Brigadier General (individual) [DRCONGO]

4. MUGARAGU, Leodomir (a.k.a. LEON, Manzi; a.k.a. MANZI, Leo), Katoyi, North Kivu, Congo, Democratic Republic of the; DOB 1954; alt. DOB 1953; POB Kigali, Rwanda; alt. POB Rushashi (Northern Province), Rwanda; FDLR/FOCA Chief of Staff; Brigadier General (individual) [DRCONGO]

Dated: December 2, 2010.
Adam J. Szubin,
Director, Office of Foreign Assets Control.

[FR Doc. 2010-31082 Filed 12-9-10; 8:45 am]

BILLING CODE 4811-45-P